NATIONAL ARCHIVES AND RECORDS ADMINISTRATION

Nixon Presidential Historical Materials: Opening of Materials

AGENCY: National Archives and Records Administration.

ACTION: Notice of Opening of Additional Materials.

SUMMARY: This notice announces the opening of additional Nixon Presidential Historical Materials by the Richard Nixon Presidential Library and Museum, a division of the National Archives and Records Administration. Notice is hereby given that, in accordance with section 104 of Title I of the Presidential Recordings and Materials Preservation Act (PRMPA, 44 U.S.C. 2111 note) and 1275.42(b) of the PRMPA Regulations implementing the Act (36 CFR part 1275), the Agency has identified, inventoried, and prepared for public access approximately 265 hours of Nixon White House tape recordings and additional textual materials from among the Nixon Presidential Historical Materials.

DATES: The Richard Nixon Presidential Library and Museum intends to make the materials described in this notice available to the public on Thursday, December 9, 2010 at the Richard Nixon Presidential Library and Museum's primary location in Yorba Linda, CA, beginning at 9 a.m. (PDT). The newly released Nixon White House tapes will also be available on the Web at http://www.nixonlibrary.gov at the same time (9 a.m. PDT; Noon, EDT). In accordance with 36 CFR 1275.44, any person who believes it necessary to file a claim of legal right or privilege concerning access to these materials must notify the Archivist of the United States in writing of the claimed right, privilege, or defense within 30 days of the publication of this notice. These claims should be sent to the Office of the Archivist of the United States, National Archives at College Park, 8601 Adelphi Road, College Park, MD 20740-6001.

FOR FURTHER INFORMATION CONTACT: Timothy Naftali, Director, Richard Nixon Presidential Library and Museum, 714-983-9120.

SUPPLEMENTARY INFORMATION: The following materials will be made available in accordance with this notice:

1. NARA's Nixon Library is proposing to open approximately 1,802 conversations which were recorded between February and early April 1973. These conversations total approximately 265 hours of listening time. This is the fourteenth opening of Nixon White House tapes since 1980. There are no transcripts for these tapes. Tape subject logs, prepared by the Nixon Library, are offered for public access as a finding aid to the tape segments and a guide for the listener. There is a separate tape log entry for each conversation. Each tape log entry includes the names of participants; date and inclusive times of each conversation; location of the conversation; and an outline of the content of the conversation. Listening stations will be available on a first come, first served basis at the Library in Yorba Linda. The newly released tapes will also be available on December 9 on the Web at http://www.nixonlibrary.gov. The Nixon Library reserves the right to limit listening time in response to heavy demand.

2. Previously restricted textual materials. Volume: 0.8 cubic foot. A number of textual materials previously withheld from public access have been reviewed for release and/or declassified under the systematic declassification review provisions and under the mandatory review provisions of Executive Order 13526, the Freedom of Information Act (5 U.S.C. 552), or in accordance with 36 CFR 1275.56 (Public Access regulations). The materials are from integral file segments for the White House Special Files, Staff Member and Office Files; National Security Council (NSC Files); National Security Council Institutional Files; and the Henry A. Kissinger (HAK) Office Files, including HAK telephone conversation transcripts.

3. White House Central Files, Staff Member and Office Files. Volume: 56 cubic feet. The White House Central Files Unit was a permanent organization within the White House complex that maintained a central filing and retrieval system for the records of the President and his staff. The Staff Member and Office Files consist of materials that were transferred to the Central Files but were not incorporated into the Subject Files. The following file groups will be made available: Sanford Fox, Bryce Harlow (accretion) and Lawrence Higby.

4. White House Central Files, Name Files: Volume: 0.2 cubic foot. The Name Files were used for routine materials filed alphabetically by the name of the correspondent; copies of documents in the Name Files were usually filed by subject in the Subject Files. The following Name File folder will be made available: Glass, R.; Richey, A-C; Whiting, A-C.

Dated: October 29, 2010.
David S. Ferriero,
Archivist of the United States.

[FR Doc. 2010-28053 Filed 11-4-10; 8:45 am]

BILLING CODE 7515-01-P